DEPARTMENT OF ENERGY

Federal Energy Regulatory Commission

[Project No. 3253-015]

Mad River Power Associates LP; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 3253-015.

c. Date filed: November 3, 2020.

d. Applicant: Mad River Power Associates (MRPA).

e. Name of Project: Campton Hydroelectric Project.

f. Location: On the Mad River in Grafton County, New Hampshire. The project occupies approximately 0.05 acre of federal land administered by the U.S. Forest Service.

g. Filed Pursuant to: Federal Power Act 16 U.S.C. 791(a)-825(r).

h. Applicant Contact: Mr. Ian Clark, Mad River Power Associates, 1 Pepsi Way, Suite 6n75, Katonah, NY 10536; Phone at (914) 297-7645, or email at info@dichotomycapital.com.

i. FERC Contact: Amanda Gill at (202) 502-6773, or amanda.gill@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 2, 2021. The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY).

m. The application is not ready for environmental analysis at this time.

n. MRPA electronically filed the license application with the Commission after the close of business on November 2, 2020 at 7:58 p.m. Pursuant to 18 CFR 385.2001(a)(2), any document received after 5:00 p.m. eastern time is considered filed on the next regular business day. On November 3, 2020, Mad River Power filed a motion requesting that the Commission accept its November 3, 2020 license application out of time or other appropriate remedies. By this notice, the requirement under 18 CFR 16.20(c) to file the subsequent license application at least 24 months before the expiration of the existing license (i.e., no later than November 2, 2020) is waived.

o. Project Description: The existing Campton Hydroelectric Project utilizes water from the impoundment (Campton Pond) created by the U.S. Forest Service's Campton Dam and consists of: (1) An intake structure located approximately 60 feet upstream of the Campton Dam that includes a 25-foot-long trashrack; (2) a 600-foot-long, 78-inch-diameter underground steel penstock; (3) a 40-foot-long, 28-foot-wide powerhouse located on the east side of the Mad River that contains a 167-kilowatt (kW) Francis turbine-generator unit; (4) two 236-kW submersible Flygt turbine-generator units located outside of the powerhouse; (5) an approximately 50-foot-long, 56-foot-wide tailrace; (6) a 200-foot-long transmission line and a 33.5-kilovolt transformer that connects the generators to the electric grid; and (7) appurtenant facilities. The project creates an approximately 600-foot-long bypassed reach of the Mad River.

Downstream passage for Atlantic Salmon is provided by a smolt bypass facility located on the left riverbank of the Mad River.

The current license requires: (1) Inflow to be discharged over the spillway to the bypassed reach during periods of non-generation or when inflow is less than 25 cfs; (2) a minimum flow of 4.5 cfs through the Atlantic salmon smolt bypass facility during periods of generation or when inflow is greater than 25 cfs; and (3) operation of the smolt bypass facility from mid-April to mid-June. The average annual generation of the project is approximately 1,170 megawatt-hours (MWh).

MRPA proposes to: (1) Operate the project in a run-of-river mode; (2) replace one of the Flygt turbine-generator units with a new 340-kW Flygt turbine-generator unit, (3) release a minimum flow of 29 cfs or inflow, whichever is less, to the bypassed reach; and (4) close the existing smolt bypass facility. MRPA estimates the project enhancements will result in an average annual generation of approximately 1,900 MWh.

p. In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-3253). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

q. Procedural schedule: The application will be processed according to the following preliminary schedule. Revisions to the schedule will be made as appropriate.

Issue Deficiency Letter (if necessary) January 2021

Request Additional Information January 2021

Issue Acceptance Letter April 2021

Issue Scoping Document 1 for comments May 2021

Request Additional Information (if necessary) August 2021

Issue Scoping Document 2 August 2021

Issue Notice of Ready for Environmental Analysis August 2021

r. Final amendments to the application must be filed with the Commission no later than 30 days from the issuance date of the notice of ready for environmental analysis.

Dated: November 17, 2020.
Kimberly D. Bose,
Secretary.

[FR Doc. 2020-25984 Filed 11-23-20; 8:45 am]

BILLING CODE 6717-01-P